DEPARTMENT OF DEFENSE

Department of the Army

Environmental Impact Statement for the Implementation of Energy, Water, and Solid Waste Sustainability Initiatives at Fort Bliss, TX

AGENCY: Department of the Army, DoD.

ACTION: Notice of intent.

SUMMARY: The Department of the Army advises interested parties of its intent to conduct public scoping under the National Environmental Policy Act to gather information to prepare an Environmental Impact Statement (EIS) that will evaluate the environmental impacts associated with the implementation of the Energy, Water, and Solid Waste Initiatives at Fort Bliss. These initiatives will work to enhance the energy and water security of Fort Bliss, Texas, which is operationally necessary, financially prudent and essential to the installation's mission. Elements of the implementation of the initiative would occur in Texas and New Mexico. By implementing these initiatives at Fort Bliss, the installation can help ensure that it has access to energy from renewable sources and ample water supplies now and into the future.

The decision maker at Fort Bliss will use the analysis in the EIS to determine which alternative(s) to implement. Actions to be evaluated in the EIS include: (1) The aggressive implementation of waste reduction, and energy and water conservation policies and practices; (2) the construction of a new pipeline to transport reclaimed water for best uses on Fort Bliss; (3) the construction of a Waste-to-Energy plant with adjacent landfill in the Southern Training Area of Fort Bliss, or on land to be exchanged with the Texas General Land Office; (4) the development and construction of dry-cooled concentrating solar thermal arrays in Fort Bliss Southern Training Area; (5) the development of geothermal resources on Fort Bliss in New Mexico for power generation and heating; (6) the development of existing wind energy resources on the eastern central and northern portions of Fort Bliss in New Mexico; and (7) the development of up to 20 MW of natural gas powered turbines as a complementary source of back-up power to renewable energy facilities to provide for Fort Bliss energy security. The EIS will also analyze a long-term program that considers the implementation of energy technologies on previously disturbed land, existing infrastructure, or other Army owned lands that would be compatible with Army mission and sustainability criteria. Alternatives include implementation of a combination of these projects and the no action alternative that will allow for a comparison of each of the possible actions to existing baseline environmental conditions. Other reasonable alternatives that are raised during the scoping process and capable of meeting the project purpose and need and criteria will be considered and included for evaluation in the EIS.

Environmental impacts associated with the implementation of the proposed action at Fort Bliss could include significant impacts to airspace, biological resources and migratory birds, soils and vegetation, noise impacts, increased traffic impacts, cultural resources, air quality, and surface and ground water.

ADDRESSES: Written comments should be forwarded to Dr. John Kipp, Fort Bliss Directorate of Public Works, Attention: IMBL-PWE (Kipp), Building 624 Pleasonton Road, Fort Bliss, Texas 79916; email: john.m.kipp6.civ@mail.mil; fax: (915) 568-3548.

FOR FURTHER INFORMATION CONTACT: Please contact Ms. Jean Offutt, Fort Bliss Public Affairs Office, ATTN: IMBL-PA (Offutt), Building 15 Slater Road, Fort Bliss, Texas 79916; phone: (915) 568-4505; email: thelma.g.offutt.civ@mail.mil.

SUPPLEMENTARY INFORMATION: The decisions to be made by the installation and cooperating agencies will be to determine whether and how best to implement energy, water, and solid waste technologies at Fort Bliss in both Texas and New Mexico. The EIS would assess the direct, indirect, and cumulative environmental impacts associated with various proposed alternatives. Alternatives evaluated in the EIS include different sitings and technologies that will be evaluated.

Cooperating Agencies: Some of the proposed projects considered in the alternatives being evaluated could occur on Bureau of Land Management (BLM) military-withdrawn lands in New Mexico. The BLM Las Cruces District Office and the US Air Force Holloman Air Force Base will be invited as cooperating agencies for this proposal.

Scoping And Public Comments: Native Americans, federal, state, and local agencies, organizations, and the public are invited to be involved in the scoping process for the preparation of this EIS by participating in scoping meetings and/or submitting written comments. Written comments will be accepted within 30 days of publication of the NOI in the Federal Register. The scoping process will help identify possible alternatives, potential environmental impacts, and key issues of concern to be analyzed in the EIS. Scoping meetings will be held in El Paso, Texas, and Alamogordo and Las Cruces, New Mexico. Notification of the times and locations for the scoping meetings will be locally announced and published.

Brenda S. Bowen,
Army Federal Register Liaison Officer.

[FR Doc. 2012-2844 Filed 2-7-12; 8:45 am]

BILLING CODE 3710-08-P